SOCIAL SECURITY ADMINISTRATION

20 CFR Parts 404 and 422

[Regulation Nos. 4 and 22]

RIN 0960-AG24

Technical Amendments To Change a Cross-Reference and To Remove Reference to an Obsolete Form

AGENCY: Social Security Administration.

ACTION: Correcting amendments.

SUMMARY: This document contains two technical corrections to our regulations. The first correction changes a cross-reference in our regulations regarding how we credit quarters of coverage for calendar years before 1978. The second correction removes reference to a form that has been obsolete since November 2002.

EFFECTIVE DATE: Effective on March 24, 2005.

FOR FURTHER INFORMATION CONTACT: Rosemarie Greenwald, Policy Analyst, Office of Program Development and Research, Social Security Administration, 6401 Security Boulevard, Baltimore, MD 21235-6401. Call (410) 965-5651 or TTY 1-800-325-0778 for information about these correcting amendments. For information on eligibility or filing for benefits, call our national toll-free number 1-(800) 772-1213 or TTY 1-(800) 325-0778. You may also contact Social Security Online at http://www.socialsecurity.gov/.

SUPPLEMENTARY INFORMATION: We are making two corrections to our current regulations. The first correction is being made to 20 CFR 404.141, How we credit quarters of coverage for calendar years before 1978. The cross-reference in paragraph (d)(1) of this section incorrectly cross-refers to § 404.1027(a). The correct cross reference should be to §§ 404.1047 and 404.1096, which contain the annual wage limitations based on wages and self-employment income.

The second correction we are making is to remove from § 422.505(b) the reference to, and description of, form SSA-1388, Report of Student Beneficiary at End of School Year. This form became obsolete on November 1, 2002.

(Catalog of Federal Domestic Assistance Programs Nos. 96.001, Social Security—Disability Insurance; 96.002, Social Security—Retirement Insurance; 96.004, Social Security—Survivors Insurance)

List of Subjects

20 CFR Part 404

Administrative practice and procedure, Blind, Disability benefits, Old-Age, Survivors and Disability Insurance, Reporting and recordkeeping requirements, Social Security.

20 CFR Part 422

Administrative practice and procedure, Organization and functions (Government agencies), Reporting and recordkeeping requirements, Social Security.

Dated: March 17, 2005.
Martin Sussman,
Regulations Officer.

For the reasons set out in the preamble, part 404 and part 422 of chapter III of title 20 of the Code of Federal Regulations are corrected by making the following correcting amendments:

PART 404-FEDERAL OLD-AGE, SURVIVORS AND DISABILITY INSURANCE (1950-)

Subpart B—[Amended]

1. The authority citation for subpart B continues to read as follows:

Authority: Secs. 205(a), 212, 213, 214, 216, 217, 223 and 702(a)(5) of the Social Security Act (42 U.S.C. 405 (a), 412, 413, 414, 416, 417, 423 and 902(a)(5)).

§ 404.141 [Amended]

2. Paragraph (d)(1) of § 404.141 is amended by correcting the reference “§ 404.1027(a)” to read “§§ 404.1047 and 404.1096.”

PART 422—ORGANIZATION AND PROCEDURES

Subpart F—[Amended]

3. The authority citation for subpart F continues to read as follows:

Authority: Secs. 205 and 702(a)(5) of the Social Security Act (42 U.S.C. 405 and 902(a)(5).

§ 422.505 [Amended]

4. In the list of forms in paragraph (b) of § 422.505, remove the form SSA—1388 and its description.

[FR Doc. 05-5774 Filed 3-23-05; 8:45 am]

BILLING CODE 4191-02-P